DEPARTMENT OF JUSTICE

Notice of Lodging of Amendment to Consent Decree Pursuant to the Clean Water Act

In accordance with Departmental policy, 28 CFR 50.7, notice is hereby given that a proposed Amendment to Consent Decree Entered on December 29, 1999 in United States and State of Georgia v. City of Atlanta, Civil Action No. 1:98-CV-1956-TWT, was lodged with the United States District Court for the Northern District of Georgia, Atlanta Division on July 12, 2002.

The First Amended Consent Decree involved the settlement of Claims brought by the United States and State pursuant to the Clean Water Act, 33 U.S.C. 1251 et seq. and the Georgia Water Quality Control Act, O.G.A. §§ 12-5-21 et seq. The United States and State sought the assessment of civil penalties and injunctive relief to bring the City into compliance with the Clean Water Act and the Georgia Water Quality Control Act. The proposed and agreed upon Amendment would modify the Consent Decree by: (1) Substituting a tunnel project for a diversion project; (2) providing for a different date of completion for the tunnel project, and (3) changing the time in which the City must remit payment of stipulated penalties.

The Department of Justice will receive, for a period of thirty (30) days from the date of this publication, comments relating to the proposed Amendment to Consent Decree. Comments should be addressed to the Assistant Attorney General, Environment and Natural Resources Division, P.O. Box 7611, U.S. Department of Justice, Washington, DC 20044-7611. Each communication should refer on its face to United States and State of Georgia v. City of Atlanta, DOJ #90-5-1-4430.

The proposed Amendment to Consent Decree may be examined at the Office of the United States Attorney, Northern District of Georgia, 1800 U.S. Courthouse, 75 Spring Street, SW., Atlanta, Georgia 30335, and at the U.S. Environmental Protection Agency, Region 4 Office, 61 Forsyth Street, Atlanta, Georgia 30303. A copy of the proposed Amendment to Consent Decree may be obtained by (1) Mail from the Consent Decree Library, P.O. Box 7611, U.S. Department of justice, Washington, DC 20044-7611; or by (2) faxing the request to Tonia Fleetwood, U.S. Department of justice, fax number (202) 616-6584; phone confirmation (202) 514-1547. In requesting a copy, please forward the request and a check in the amount of $1.25 (25 cents per page reproduction cost), made payable to the U.S. Treasury.

Ellen Mahan,
Assistant Section Chief, Environmental Enforcement Section, Environment and Natural Resources Division.

[FR Doc. 02-18755 Filed 7-24-02; 8:45 am]

BILLING CODE 4410-15-M